NATIONAL ARCHIVES AND RECORDS ADMINISTRATION

36 CFR Part 1225

[FDMS No. NARA-24-0008; NARA-2024-026]

RIN 3095-AC12

Federal Records Management: GAO Concurrence; Correction

AGENCY: National Archives and Records Administration (NARA).

ACTION: Direct final rule; correction.

SUMMARY: NARA is correcting a direct final rule that appeared in the Federal Register on May 1, 2024, amending our records management regulations to limit the role of the Government Accountability Office (GAO) in approving certain deviations in agency records schedules. This document is correcting the DATES section to add the effective date of the rule, and it is correcting the amendatory instruction to the rule.

DATES: Effective July 30, 2024.

FOR FURTHER INFORMATION CONTACT: Edward Germino, Strategy and Performance Division, by email at regulation_comments@nara.gov, or by telephone at 301-837-3758. Contact rmstandards@nara.gov with any questions on records management standards and policy.

SUPPLEMENTARY INFORMATION: In FR Doc. 2024-09396, appearing on page 35007 in the Federal Register of Wednesday, May 1, 2024, the following corrections are made:

1. On page 35007, in the first column, the ACTION caption is corrected to read as follows:

ACTION: Direct final rule.

2. On page 35007, in the first column, the DATES caption is corrected to read as follows: DATES. This rule is effective July 30, 2024, without further action, unless adverse comment is received by July 1, 2024. If adverse comment is received, NARA will publish a timely withdrawal of the rule in the Federal Register.

§ 1225.20 [Corrected]

3. On page 35008, in the first column, in part 1225, in amendment 2, the instruction “Amend § 1225.20 to read as follows:” is corrected to read “Revise § 1225.20 to read as follows:”

Laurence Brewer,
Chief Records Officer for the U.S. Government.

[FR Doc. 2024-11915 Filed 5-31-24; 8:45 am]

BILLING CODE 7515-01-P